DEPARTMENT OF THE INTERIOR

National Park Service

[NPS-WASO-NRNHL-15232; PPWOCRADI0, PCU00RP14.R50000]

National Register of Historic Places; Notification of Pending Nominations and Related Actions

Nominations for the following properties being considered for listing or related actions in the National Register were received by the National Park Service before March 8, 2014. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th Floor, Washington, DC 20005; or by fax, 202-371-6447. Written or faxed comments should be submitted by April 11, 2014. Before including your address, phone number, email address, or other personal identifying information in your comment, you should be aware that your entire comment—including your personal identifying information—may be made publicly available at any time. While you can ask us in your comment to withhold your personal identifying information from public review, we cannot guarantee that we will be able to do so.

Dated: March 11, 2014.
J. Paul Loether,
Chief, National Register of Historic Places/National Historic Landmarks Program.

CALIFORNIA

San Francisco County

Union Iron Works Historic District, E. of Illinois between 18th & 22nd Sts., San Francisco, 14000150

FLORIDA

Broward County

Pompano Beach Mound, 1232 SE. 13th St., Pompano Beach, 14000151

Polk County

Cypress Gardens, 1 Legoland Way, Winter Haven, 14000152

GEORGIA

Glynn County

United States Post Office and Court House, 805 Gloucester, Brunswick, 14000153

ILLINOIS

Sangamon County

Heimberger House, (Multiple Family Dwellings in Springfield, Illinois MPS) 653-655 W. Vine St., Springfield, 14000154

MASSACHUSETTS

Bristol County

Jewish Cemetery, Old Plainville Rd., New Bedford, 14000155

Swansea Friends Meetinghouse and Cemetery, 223 Prospect St., Somerset, 14000156

Middlesex County

Oliver House, (Wakefield MRA) 58 Oak St., Wakefield, 14000157

Norfolk County

Pondville Cemetery, Everett St., Norfolk, 14000158

MISSOURI

Clay County

Downtown Smithville Historic District, Roughly bounded by Bridge, Church, Commercial & Meadow Sts., Smithville, 14000159

Jackson County

Kemper Arena, 1800 Genessee St., Kansas City, 14000160

Ridenour—Baker Grocery Company Building, (Railroad Related Historic Commercial and Industrial Resources in Kansas City, Missouri MPS) 933 Mulberry St., Kansas City, 14000161

Westport Junior High School, (Kansas City, Missouri School District Pre-1970 MPS) 300 E. 39th St., Kansas City, 14000162

SOUTH CAROLINA

Beaufort County

Port Royal School, 1214 Paris Ave., Port Royal, 14000163

Lexington County

Lexington County Courthouse, 139 E. Main St., Lexington, 14000164

WASHINGTON

Clark County

Clark County Courthouse, 1200 Franklin St., Vancouver, 14000165

King County

Nelson—Parker House, 17605 182nd Ave., NE., Woodinville, 14000166

Pierce County

Coffee Pot Restaurant, The, 2101 S. Tacoma Way, Tacoma, 14000167

Whitman County

Star Route and Palouse Street Brick Road, Part of Maple & Palouse Sts., Pullman, 14000168

WISCONSIN

Florence County

Florence Town Hall, 748 Central Ave., Florence, 14000169

A request for removal has been received for the following resources:

WISCONSIN

Kenosha County

Alford Park Warehouse, 1885 Sheridan Rd., Kenosha, 02001665

Walworth County

Phoenix Hall—Wisconsin Institute for the Education of the Deaf and Dumb, 309 W. Walworth St., Delavan, 87000492

[FR Doc. 2014-06753 Filed 3-26-14; 8:45 am]

BILLING CODE 4312-51-P